OFFICE OF PERSONNEL MANAGEMENT

[Program Application, OMB No. 3206-0082]

Proposed Collection; Comment Request for a Revised Collection of Information: OPM Form 1300, Presidential Management Fellows

AGENCY: Office of Personnel Management.

ACTION: Notice.

SUMMARY: In accordance with the Paperwork Reduction Act of 1995 (Pub. L. 104-13, May 22, 1995), this notice announces that the Office of Personnel Management (OPM) intends to submit a request to the Office of Management and Budget (OMB). The OPM is requesting OMB to approve a revised collection associated with the OPM Form 1300, Presidential Management Fellows Program Application, which was given emergency approval September 2003. Approval of the Presidential Management Fellows Program (PMF) application is necessary to facilitate the timely nomination, selection and placement of Presidential Management Fellows finalists in Federal agencies.

On November 21, 2003, President George W. Bush signed Executive Order 13318, changing the name of the Presidential Management Intern (PMI) Program to the Presidential Management Fellows (PMF) Program. The OPM is presently finalizing new regulations affecting the program, which may impact the application process.

Comments are particularly invited on: whether this information is necessary for the proper performance of functions of OPM, and whether it will have practical utility; whether our estimate of the public burden of this collection of information is accurate, and based on valid assumptions and methodology; and ways in which we can minimize the burden of the collection of information on those who are to respond, through the use of appropriate technological collection techniques or other forms of information technology.

For copies of this proposal, contact Mary Beth Smith-Toomey at (202) 606-8358, FAX (202) 418-3251 or e-mail to mbtoomey@opm.gov. Please include your mailing address with your request.

DATES: Comments on this proposal should be received on or before May 25, 2004.

ADDRESSES: Send or deliver comments to: Office of Personnel Management, Division for Human Resources Products and Services, ATTN: Rob Timmins, 1900 E Street, NW., Room 1425, Washington, DC 20415-9820, Email: ratimmin@opm.gov.

Office of Personnel Management.
Kay Coles James,
Director.

[FR Doc. 04-6791 Filed 3-25-04; 8:45 am]

BILLING CODE 6325-38-P